DEPARTMENT OF LABOR

Employment and Training Administration

Workforce Investment Act; Native American Employment and Training Council

AGENCY: Employment and Training Administration, U.S. Department of Labor.

ACTION: Notice of meeting.

SUMMARY: Pursuant to Section 10 (a)(2) of the Federal Advisory Committee Act (FACA) (Pub. L. 92-463), as amended, and Section 166 (h)(4) of the Workforce Investment Act (WIA) [29 U.S.C. 2911(h)(4)], notice is hereby given of the next meeting of the Native American Employment and Training Council (Council), as constituted under WIA.

DATES: The meeting will begin at 9:00 a.m. (Eastern Standard Time) on Wednesday, November 5, 2014, and continue until 5:00 p.m. that day. The meeting will reconvene at 9:00 a.m. on Thursday, November 6, 2014, and adjourn at 5:00 p.m. that day. The period from 3:30 p.m. to 5:30 p.m. on November 5, 2014, will be reserved for participation and presentations by members of the public.

ADDRESSES: The meeting will be held at the Brown Hotel, 335 West Broadway, Louisville, Kentucky 40202.

SUPPLEMENTARY INFORMATION: The meeting will be open to the public. Members of the public not present may submit a written statement on or before November 3, 2014, to be included in the record of the meeting. Statements are to be submitted to Mr. Craig Lewis, Designated Federal Official (DFO), U.S. Department of Labor, 200 Constitution Avenue NW., Room S-4209, Washington, DC 20210. Persons who need special accommodations should contact Mr. Craig Lewis at (202) 693-3384, at least two business days before the meeting. The formal agenda will focus on the following topics: (1) U.S. Department of Labor, Employment and Training Administration Update; (2) Training and Technical Assistance; (3) Council and Workgroup Updates and Recommendations; (4) New Business and Next Steps; and (5) Public Comment.

FOR FURTHER INFORMATION CONTACT: Mr. Craig Lewis, DFO, Division of Indian and Native American Programs, Employment and Training Administration, U.S. Department of Labor, Room S-4209, 200 Constitution Avenue NW., Washington, DC 20210. Telephone number (202) 693-3384 (VOICE) (this is not a toll-free number).

Signed at Washington, DC, August 2014.
Portia Wu,
Assistant Secretary, Employment and Training Administration.

[FR Doc. 2014-21565 Filed 9-9-14; 8:45 am]

BILLING CODE 4501-FR-P